DEPARTMENT OF DEFENSE

Office of the Secretary

[Docket ID: DoD-2022-OS-0079]

Submission for OMB Review; Comment Request

AGENCY: Office of the Under Secretary of Defense for Personnel and Readiness, Department of Defense (DoD).

ACTION: 30-Day information collection notice.

SUMMARY: The DoD has submitted to the Office of Management and Budget (OMB) for clearance the following proposal for collection of information under the provisions of the Paperwork Reduction Act.

DATES: Consideration will be given to all comments received by November 25, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Application for Correction of Military Record under the Provisions of Title 10, U.S. Code, Section 1552; DD Form 149; OMB Control Number 0704-0003.

Type of Request: Revision.

Number of Respondents: 20,759.

Responses per Respondent: 1.

Annual Responses: 20,759.

Average Burden per Response: 1 hour.

Annual Burden Hours: 20,759 hours.

Needs and Uses: Under title 10 United States Code 1552, Active Duty and Reserve Component Service members, Coast Guard, former Service members, their lawful or legal representatives, spouses of former Service members on issues of Survivor Benefit Program (SBP) benefits, and civilian employees with respect to military records other than those related to civilian employment, who believe they have suffered an injustice as a result of error or injustice in military records (hereafter referred to as Respondent), may apply to their respective Boards for Correction of Military/Naval Records (BCM/NR) for a correction of their military record. These BCM/NR are the highest level of administrative review authority regarding official personnel records in the Military Departments. The information collected is needed to provide the BCM/NR the basic data to process and act on the Respondent's request. The Respondent applies to the respective BCM/NR, which uses the DD Form 149, “Application for Correction of Military Record under the Provisions of Title 10, U.S. Code, Section 1552,” as the collection instrument. The form is formatted in both electronic and paper format with text or hand-written fillable entries. The information from the DD Form 149 is used by the respective BCM/NR in processing the respondent's request pursuant to 10 U.S.C. 1552. The DD Form 149 was developed to standardize application to the BCM/NR. This information is used to identify and secure the appropriate official military and medical records from the records storage facilities. Information on the form is also used to determine status, to allow respondents to designate counsel of choice, to identify the issues involved, and to determine if the request was filed within the three-year statute of limitations established by Congress (10 U.S.C. 1552). The request is initiated by the Respondent; therefore, there is no preemptory request or invitation sent to the Respondent associated with the information collection. The information collected from the DD Form 149 is used by the respective BCM/NR to determine if an error or injustice has occurred in an individual's military record and, if applicable, the BCM/NR will promulgate a correction based on error, injustice, or clemency.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: October 19, 2022.
Kayyonne T. Marston,
Alternate OSD Federal Register Liaison Officer, Department of Defense.

[FR Doc. 2022-23090 Filed 10-24-22; 8:45 am]

BILLING CODE 5001-06-P